CORPORATION FOR NATIONAL AND COMMUNITY SERVICE

Proposed Information Collection; Submission for OMB Review; Comment Request

AGENCY: Corporation for National and Community Service.

ACTION: Notice.

SUMMARY: The Corporation for National and Community Service (hereinafter the “Corporation”), has submitted the following public information collection request (ICR) to the Office of Management and Budget (OMB) for review and approval in accordance with the Paperwork Reduction Act of 1995 (Pub. L. 104-13), (44 U.S.C. Chapter 35). Copies of the ICR, with applicable supporting documentation, may be obtained by calling the Corporation for National and Community Service, Niloufer De Silva, 202-606-5000 ext. 6912. Individuals who use a telecommunications device for the deaf (TTY-TDD) may call (202) 565-2799 between 8:30 a.m. and 5 p.m. Eastern time, Monday through Friday.

DATES: Written comments must be submitted to the individual and office listed in the ADDRESSES section by December 12, 2005.

ADDRESSES: Comments may be submitted, identified by the title of the information collection activity, to the Office of Information and Regulatory Affairs, Attn: Ms. Katherine Astrich, OMB Desk Officer for the Corporation for National and Community Service, by either of the following two methods within 30 days from the date of publication in this Federal Register:

(1) By fax to: (202) 395-6974, Attention: Ms. Ms. Katherine Astrich, OMB Desk Officer for the Corporation for National and Community Service; and

(2) Electronically by email to: Katherine_T._Astrich@omb.eop.gov.

SUPPLEMENTARY INFORMATION: The OMB is particularly interested in comments that:

• Evaluate whether the proposed collection of information is necessary for the proper performance of the functions of the Corporation, including whether the information will have practical utility;

• Evaluate the accuracy of the agency's estimate of the burden of the proposed collection of information including the validity of the methodology and the assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments: A 60-day Federal Register notice for the My Improvement Plan: On-line Survey and Planning Tool for Training and Technical Assistance (T/TA) was published on March 14, 2005. The comment period ended on May 14, 2005. No comments were received.

Description: The Corporation is seeking approval of the My Improvement Plan: An On-line Survey and Planning Tool for T/TA. The purpose of this tool is to strengthen the capacities of grantees to manage their programs and deliver services effectively. This tool will cost-effectively develop program and project core management competencies (such as, financial and grants management, resource and fund development, performance measurement and evaluation, etc.). My Improvement Plan will enable program officers and T/TA providers to assess users' needs, target, and deliver T/TA to users.

The tool will be published by the Corporation's Office of Leadership Development and Training on its website www.nationalservice.gov/resources. The tool's questions will be voluntarily completed by the Corporation's grantees, other service organizations and interested members of the public. Based on their responses, users will be directed to specific training and technical resources most beneficial to their professional development in the form of an individualized learning plan (“My Improvement Plan”).

The survey tool includes a pre-screening block consisting of 36 questions and 10 building blocks consisting of between 12 and 42 questions. Users of the tool may opt to take one or all of the building blocks. This tool will be completed electronically using the Corporation's training and technical assistance Web site, www.nationalservice.gov/resources.

Type of Review: New.

Agency: Corporation for National and Community Service.

Title: My Improvement Plan: On-line Survey and Planning Tool for Training and Technical Assistance (T/TA).

OMB Number: None.

Frequency: On Occasion.

Affected Public: Individuals associated with the Corporation's grantee organizations, other service organizations and interested members of the public.

Total Respondents: 4,000 annually.

Average Time Per Respondent: 3 minutes per building block questionnaire.

Total Burden Cost (capital/startup): None.

Total Annual Cost (operating/maintaining systems or purchasing services): None.

Dated: November 4, 2005.
Gretchen Van Der Veer,
Director, Office of Leadership Development and Training.

[FR Doc. 05-22469 Filed 11-9-05; 8:45 am]

BILLING CODE 6050-$$-P